DEPARTMENT OF COMMERCE

International Trade Administration

[A-570-928]

Uncovered Innerspring Units From the People's Republic of China: Partial Rescission of Antidumping Duty Administrative Review; 2012-2013

AGENCY: Enforcement and Compliance, formerly Import Administration, International Trade Administration, Department of Commerce.

SUMMARY: The Department of Commerce (“the Department”) is partially rescinding the administrative review of the antidumping duty order on uncovered innerspring units from the People's Republic of China (“PRC”) for the period February 1, 2012, through January 31, 2013, based on the withdrawal of certain requests for review.

DATES: Effective Date: January 7, 2014.

FOR FURTHER INFORMATION CONTACT: Steven Hampton, AD/CVD Operations, Office V, Enforcement and Compliance, International Trade Administration, Department of Commerce, 14th Street and Constitution Avenue NW., Washington, DC 20230; telephone: (202) 482-0116.

SUPPLEMENTARY INFORMATION:

Background

On February 1, 2013, the Department published a notice of opportunity to request an administrative review of the antidumping duty order on uncovered innerspring units from the PRC.¹ Pursuant to requests from Petitioner,² the Department initiated an administrative review with respect to five exporters ³ for the period February 1, 2012, through January 31, 2013.⁴ The deadline for a party to withdraw a request for review was June 27, 2013.⁵

¹ See Antidumping or Countervailing Duty Order, Finding, or Suspended Investigation; Opportunity to Request Administrative Review, 78 FR 7397 (February 1, 2013).

² Leggett & Platt, Inc. (hereinafter, “Petitioner”).

³ Petitioner requested a review of Goldon Bedding Manufacturing Sdn. Bhd. (“Goldon Malaysia”), Goldon International (Singapore) Pte. Ltd. (“Goldon Singapore”), Macau Commercial and Industrial Spring (“Macau Commercial”), Ta Cheng Coconut Knitting (“Ta Cheng”), and Tai Wa Hong.

⁴ See Initiation of Antidumping and Countervailing Duty Administrative Reviews and Request for Revocation in Part, 78 FR 19197 (March 29, 2013) (“Initiation Notice”).

⁵ See id. at 19198.

On March 28, 2013, Petitioner withdrew its review request with respect to Tai Wa Hong and Goldon Singapore.⁶ On April 3, 2013, Petitioner withdrew its review request with respect to Macau Commercial.⁷ The Department notes that Tai Wa Hong and Macau Commercial are known collectively as the “Tai Wa Hong Group.” ⁸ No other party requested an administrative review of Tai Wa Hong, Macau Commercial, or Goldon Singapore. Thus, Goldon Malaysia and Ta Cheng are the only entities for which a review request remains outstanding.

⁶ See Letter from Petitioner regarding Partial Withdrawal of Request for Antidumping Administrative Review of the Antidumping Duty Order on Uncovered Innerspring Units from the People's Republic of China, March 28, 2013.

⁷ See Letter from Petitioner regarding Partial Withdrawal of Request for Antidumping Administrative Review of the Antidumping Duty Order on Uncovered Innerspring Units from the People's Republic of China, April 3, 2013.

⁸ See Uncovered Innerspring Units from the People's Republic of China: Final Results of Antidumping Duty Administrative Review; 2011-2012, 78 FR 17635, 17636 (March 22, 2013).

Partial Rescission of Review

Pursuant to 19 CFR 351.213(d)(1), the Department will rescind an administrative review, in whole or in part, if the party that requested the review withdraws its request within 90 days of the publication of the notice of initiation of the requested review. In this segment, Petitioner's withdrawals of its review requests of Tai Wa Hong, Macau Commercial, and Goldon Singapore were submitted within the 90-day deadline, and no other party requested an administrative review of these entities. Therefore, in accordance with 19 CFR 351.213(d)(1), we are rescinding the administrative review of the antidumping duty order on uncovered innerspring units from the PRC covering the period February 1, 2012, through January 31, 2013, with respect to Tai Wa Hong, Macau Commercial, and Goldon Singapore. However, the review will continue with respect to the other entities for which a review was requested and initiated (i.e., Goldon Malaysia and Ta Cheng).

Assessment

The Department will instruct U.S. Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions to CBP 15 days after publication of this notice of partial rescission of the administrative review.

Notifications

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

This notice also serves as a final reminder to parties subject to the administrative protective order (“APO”) of their responsibility concerning the disposition of proprietary information disclosed under an APO in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: December 26, 2013.
Christian Marsh,
Deputy Assistant Secretary for Antidumping and Countervailing Duty Operations.

[FR Doc. 2014-00025 Filed 1-6-14; 8:45 am]

BILLING CODE 3510-DS-P